DEPARTMENT OF HEALTH AND HUMAN SERVICES

Administration for Children and Families

Proposed Information Collection Activity; Comment Request

Title: Permanency Innovations Initiative Evaluation: Phase I.

OMB No.: New collection.

Description: The Administration for Children and Families (ACF), U.S. Department of Health and Human Services (HHS) intends to collect data for an evaluation of the Permanency Innovations Initiative (PII). This 5-year initiative, funded by the Children's Bureau (CB) within ACF, is intended to build the evidence base for innovative interventions that enhance well-being and improve permanency outcomes for particular groups of children and youth who are at risk for long-term foster care and who experience the most serious barriers to timely permanency.

Six grantees are funded to identify local barriers to permanent placement and implement innovative strategies that mitigate or eliminate those barriers and reduce the likelihood that children will remain in foster care for three years or longer. The first year of the initiative focused on clarifying grantees' target populations and intervention programs. In addition, evaluation plans were developed to support rigorous site-specific and cross-site studies to document the implementation and effectiveness of the grantees' projects and the initiative overall.

Data collection for the PII evaluation includes a number of components being launched at different points in time. The purpose of the current document is to request approval of data collection efforts needed for a first phase of data collection and to request a waiver for subsequent 60 day notices for later components of the evaluation. The first phase includes data collection for a cross-site implementation evaluation and site-specific evaluations of two PII grantees (Washoe County, Nevada, and the State of Kansas) that will begin implementing interventions during the second year of the PII grant period. The second phase includes a cost evaluation and site-specific evaluations of four PII grantees expected to implement interventions in the third year of the PII grant period.

Data for the evaluations will be collected through: (1) Direct assessment of caregivers; (2) service providers' clinical assessments of children and families; (3) interviews and focus groups with grantee staff during site visits and through telephone interviews; (4) web-based data collection from service providers and key informants; and (5) retrieval and submission of data from grantee data systems.

Respondents: Children and their parents or permanent or foster caregivers, caseworkers, supervisors, service providers, and key informants such as grantee project directors, data managers, and representatives of partner agencies.

Annual Burden Estimates
Instrument | Annual number of respondents | Number of responses per respondent | Average burden hours per response | Total annual burden hours
CROSS-SITE IMPLEMENTATION STUDY
Baseline Survey of Organization/System Readiness | 60 | 1 | .75 | 45
Implementation Drivers Web Survey | 150 | 2.0 | .75 | 225
Grantee Case Study Field Visit Discussion Guide | 60 | 1 | 2.0 | 120
Fidelity Data (Implementation Quotient Tracker) | 2 | 8 | 1.5 | 24
Cross-site implementation study annual burden hours | 414
KANSAS SITE-SPECIFIC EVALUATION
Caregiver Initial Information Form | 300 | 1 | 0.1 | 30
Child and Adolescent Functional Assessment Scale | 300 | 2 | 1.0 | 600
Family Assessment Battery | 300 | .52 | 1.5 | 234
Caseworker interviews for NCFAS completion | 45 | 54 | 0.5 | 1,215
Kansas annual burden hours | 2,079
WASHOE COUNTY SITE-SPECIFIC EVALUATION
Family Assessment Battery | 249 | 1.33 | 1.5 | 497
Washoe annual burden hours | 497

Estimated Total Annual Burden Hours: 2,990.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2012-4051 Filed 2-21-12; 8:45 am]

BILLING CODE 4184-01-P